DEPARTMENT OF AGRICULTURE

Forest Service

Siskiyou Resource Advisory Committee To Meet April 18, 2011

ACTION: Notice of Meeting.

SUMMARY: The Siskiyou County Resource Advisory Committee (RAC) will meet April 18, 2011.

DATES: The meeting will be held on April 18, 2011 and will begin at 4 p.m.

ADDRESSES: The meeting will be held at the Klamath National Forest Supervisor's Office, Conference Room, 1312 Fairlane Road, Yreka, CA.

FOR FURTHER INFORMATION CONTACT: Kerry Greene, Committee Coordinator, USDA, Klamath National Forest, Supervisor's Office, 1312 Fairlane Road, Yreka, CA 96097. (530) 841-4484; e-mail kggreene@fs.fed.us.

SUPPLEMENTARY INFORMATION: The agenda includes project updates and financial status, and presentation and review of new project proposals to be considered by the RAC. The meeting is open to the public. Opportunity for public comment will be provided and individuals will have the opportunity to address the Committee at that time.

Dated: March 17, 2011.
Patricia A. Grantham,
Forest Supervisor, Klamath National Forest.

[FR Doc. 2011-6934 Filed 3-23-11; 8:45 am]

BILLING CODE 3410-11-P